ENVIRONMENTAL PROTECTION AGENCY

40 CFR Parts 52 and 81

[NH-45-7172a; A-1-FRL-6906-2]

Approval and Promulgation of Air Quality Implementation Plans and Designations of Areas for Air Quality Planning Purposes; State of New Hampshire; Revision to the Carbon Monoxide State Implementation Plan, City of Nashua; Carbon Monoxide Redesignation Request, Maintenance Plan, Transportation Conformity Budget, and Emissions Inventory for the City of Nashua; Carbon Monoxide Redesignation Request, Maintenance Plan, Transportation Conformity Budget, and Emissions Inventory for the City of Manchester

AGENCY: Environmental Protection Agency (EPA).

ACTION: Direct final rule.

SUMMARY: The Environmental Protection Agency (EPA) is redesignating the Nashua, New Hampshire nonattainment area to attainment for the carbon monoxide (CO) air quality standard and approving a maintenance plan that will insure that the Nashua area remains in attainment. The EPA is also redesignating the Manchester, New Hampshire nonattainment area to attainment for the CO air quality standard and approving a maintenance plan that will insure that the Manchester area remains in attainment. Under the Clean Air Act, as amended in 1990 (the CAA), designations can be revised if sufficient data are available to warrant such revisions and the request to redesignate shows that all of the requirements of section 107(d)(E)(3) of the CAA have been met. EPA is approving the New Hampshire maintenance plans and other redesignation submittals because they meet the maintenance plan and redesignation requirements, and will ensure that the two areas remains in attainment. The approved maintenance plans will become a federally enforceable part of the New Hampshire State Implementation Plan (SIP). In this action, EPA is also approving the New Hampshire 1990 baseline emission inventories for both of these areas, transportation conformity budgets for both areas and a revision to the motor vehicle inspection and maintenance (I/M) SIP approved for the Nashua area.

DATES: This direct final rule is effective January 29, 2001 without further notice, unless EPA receives adverse comment by December 29, 2000. If adverse comment is received, EPA will publish a timely withdrawal of the direct final rule in the Federal Register and inform the public that the rule will not take effect.

ADDRESSES: Comments may be mailed to David Conroy, Unit Manager, Air Quality Planning, Office of Ecosystem Protection (mail code CAQ), U.S. Environmental Protection Agency, New England office, One Congress Street, Suite 1100, Boston, MA 02114-2023. Copies of the State's redesignation requests and other information supporting this action and EPA's technical support document are available for public inspection during normal business hours, by appointment at the Office of Ecosystem Protection, U.S. Environmental Protection Agency, New England office, One Congress Street, 11th floor, Boston, MA and Air Resources Division, Department of Environmental Services, 6 Hazen Drive, P.O. Box 95, Concord, NH 03302-0095.

FOR FURTHER INFORMATION CONTACT: Jeffrey S. Butensky, Environmental Planner, Air Quality Planning Unit of the Office of Ecosystem Protection (mail code CAQ), U.S. Environmental Protection Agency, New England office, One Congress Street, Boston, MA 02114-2023, (617) 918-1665 or at butensky.jeff@epa.gov.

SUPPLEMENTARY INFORMATION:

I. Summary of SIP Revisions

Why is EPA taking this action?

Why are we concerned about carbon monoxide?

How did EPA establish Manchester and Nashua as nonattainment for carbon monoxide?

Why did New Hampshire initiate an Inspection and Maintenance program in the Nashua area?

What are the related Clean Air Act requirements, and how does New Hampshire meet them?

Why Is EPA Taking This Action?

On February 2, 1999, the State of New Hampshire submitted formal CO redesignation requests for the City of Manchester and the City of Nashua. These two submittals also included maintenance plans, 1990 CO emission inventories, and transportation conformity budgets for both cities. Both of these submittals are being approved in today's action. New Hampshire also submitted a revision to the CO attainment SIP for Nashua. This submittal, dated February 1, 1999, requests to replace the previously implemented CO I/M program in the Nashua area with controls consisting of the existing federal Tier 1 emission standards for new vehicles ¹ and the federal reformulated gasoline program (RFG).² This request is also being approved in today's action. Please note that if EPA receives adverse comment on an amendment, paragraph, or section of this rule and if that provision may be severed from the remainder of the rule, EPA may adopt as final those provisions of the rule that are not the subject of an adverse comment.

¹ Tier 1 motor vehicle standards have been implemented beginning with model year 1994.

² Reformulated gasoline has been sold since 1995 in the four southernmost counties of New Hampshire (i.e., Merrimack, Hillsborough, Rockingham, and Strafford).

Why Are We Concerned About Carbon Monoxide?

Inhaling high levels of CO inhibits the blood's capacity to carry oxygen to organs and tissues. Persons with heart disease, children, and individuals with respiratory diseases are particularly sensitive to CO. Effects of CO on healthy adults include impaired exercise capacity, visual perception, manual dexterity, learning functions, and ability to perform complex tasks. As a result of these potential health impacts, EPA developed National Ambient Air Quality Standards (NAAQS), or the level at which CO concentrations in the ambient air become unhealthful.³ In response to the NAAQS and pursuant to CAA requirements, States have developed programs to reduce CO to levels that are below the NAAQS.

³ EPA defines the NAAQS as nine parts per million averaged over an eight-hour period, and this threshold cannot be exceeded more than once a year or an area would be violating the NAAQS.

How Did EPA Establish Manchester and Nashua as Nonattainment for Carbon Monoxide?

The City of Manchester was designated nonattainment on March 31, 1978 (43 FR 8962) and the City of Nashua was designated nonattainment on April 11, 1980 (45 FR 24869). On November 15, 1990, the Clean Air Act Amendments of 1990 were enacted. Public Law 101-549, 104 Stat. 2399, codified at 42 U.S.C. 7401-7671q. Pursuant to Section 107(d)(1)(C) of the CAA, the City of Manchester and the City of Nashua retained their designations of nonattainment for carbon monoxide by operation of law. See (56 FR 56694 (November 6, 1991)). At the same time, both areas were classified as “not classified” since ambient monitoring data for both areas was showing attainment of the CO NAAQS.

Because these areas were not classified under the CAA, it is section 172 of the CAA that sets forth the applicable requirements for these nonattainment areas. The 1990 CAA required such areas to achieve the standard by November 15, 1995, and both Manchester and Nashua have fulfilled this requirement.

On February 1, 1999, the State of New Hampshire sent EPA a CO attainment plan revision request for Nashua, and on February 2, 1999, submitted a redesignation request, maintenance plan, requisite emission inventory, and conformity budgets for the City of Nashua. Similarly, on February 2, 1999, New Hampshire submitted a redesignation request, maintenance plan, requisite emission inventory, and conformity budget for the City of Manchester. All of these components are being approved today and are discussed in detail in this document. New Hampshire submitted evidence that the State held public hearings on January 7, 1999, for the Nashua CO attainment plan revision, the Nashua CO redesignation request and related components, and the Manchester CO redesignation request and related components.

Why Did New Hampshire Initiate an Inspection and Maintenance Program in the Nashua Area?

In 1985, the State of New Hampshire submitted several SIP revisions forming the components the CO attainment plan that included a basic I/M program for CO. This basic CO I/M program was implemented in Nashua and eleven surrounding towns ⁴ starting in 1987. The program was designed to cease operating on January 1, 1995 and the State legislature allowed it to cease at that time.⁵ The Nashua area came into attainment with the CO NAAQS in 1987, and has continued to maintain attainment with the CO standard since then.

⁴ Nashua, Hollis, Merrimack, Litchfield, Hudson, Milford, Amherst, Pelham, Londonderry, Derry, Windham, and Salem.

⁵ House Bill 674, approved by the New Hampshire State Legislature in 1993, terminated the Motor Vehicle Inspection Program, effective January 1, 1995.

Prior to redesignation, New Hampshire cannot remove the Nashua CO I/M program from its SIP unless it makes a demonstration under CAA section 193, the so-called savings clause, that the State is replacing that program with another that achieves equivalent or greater emissions reductions in the nonattainment area. Therefore, in addition to requesting that EPA redesignate the Nashua area to attainment, the State also submitted a request to replace the Nashua CO I/M program with controls consisting of the Tier 1 emission standards and the reformulated gasoline program (RFG). These programs became effective in New Hampshire in 1994 and 1995, respectively.

The New Hampshire Department of Environmental Services (NHDES) conducted an analysis that provides evidence that the Tier 1 emission standards and the RFG program are providing equal or more emission reductions that the Nashua CO I/M program. The calculations show that the replacement package of measures (i.e. Tier 1 standards and RFG) provides approximately 10 tons per day more emission reductions than the basic I/M program for CO. Therefore, New Hampshire demonstrated that the replacement programs provided more of a benefit than the Nashua CO I/M program. Based on this conclusion, EPA is approving New Hampshire's request to replace the I/M program with the aforementioned replacement controls as a prerequisite for redesignating Nashua to attainment for CO. For more information, please see the Technical Support Document.

What Are the Related Clean Air Act Requirements, and How Does New Hampshire Meet Them?

Section 107(d)(3)(E) of the 1990 Clean Air Act Amendments provides five specific requirements that an area must meet in order to be redesignated from nonattainment to attainment.

1. The area must have attained the applicable NAAQS;

2. The area must have a fully approved SIP under section 110(k) of CAA;

3. The air quality improvement must be permanent and enforceable;

4. The area must have a fully approved maintenance plan pursuant to section 175A of the CAA;

5. The area must meet all applicable requirements under section 110 and Part D of the CAA.

The New Hampshire redesignation request meets the five requirements of section 107(d)(3)(E) as discussed in the following:

1. Attainment of the CO NAAQS—New Hampshire has CO air monitoring data that provides evidence that both Manchester and Nashua have met the CO NAAQS. To attain the CO NAAQS, an area must have complete quality-assured data showing no more than one exceedance of the NAAQS over at least two consecutive years. The ambient air CO monitoring data relied upon by New Hampshire in its redesignation request shows no violations of the CO NAAQS since 1987 in Nashua and since 1988 in Manchester. In addition, the state submitted modeling results using EPA's MOBILE5b emission model with specific inputs described in the submittal and New Hampshire also ran the CAL3QHC (version 2.0) dispersion model for the key traffic intersections addressed in the CO SIP. These modeling runs show no violations of the CO NAAQS throughout the maintenance period (through 2010 and 2020). New Hampshire also has committed to continue to monitor CO in both Manchester and Nashua.

2. Fully Approved SIP—New Hampshire's CO SIPs are fully approved by EPA as meeting all the requirements of Section 110 of the Act, including the requirement in Section 110(a)(2)(I) to meet all the applicable requirements of Part D (relating to nonattainment), which were due prior to the date of New Hampshire's redesignation request. On February 26, 1985, March 1, 1985, September 12, 1985, and December 3, 1985, New Hampshire submitted documents that, taken together, constitute the CO attainment plan for Nashua, including a CO I/M program for the Nashua area. In addition to this I/M program, the State implemented several intersection and traffic flow measures in Nashua to reach attainment. On August 4, 1986, EPA issued a conditional approval of the States' I/M plan for the Nashua area (51 FR 27878). The I/M plan, which was a necessary component of the Nashua attainment plan, was subsequently approved on June 12, 1987 (52 FR 22503), resulting in EPA's final approval of the attainment plan SIP on August 25, 1988 (53 FR 32391).

On October 5, 1982, and December 20, 1982, the State submitted an attainment plan for Manchester that EPA subsequently approved on June 27, 1983 (48 FR 29479). To reach attainment, the state implemented signal adjustments and the addition of turn lanes in the downtown Manchester area.

Before EPA may redesignate the New Hampshire areas to attainment, the SIP must have fulfilled the applicable requirements of part D. Under part D, an area's classification indicates the requirements to which it is subject. Subpart 1 of part D sets forth the basic nonattainment requirements applicable to all nonattainment areas, classified as well as not classifiable. Therefore, to be redesignated to attainment, the State must meet the applicable requirements of subpart 1 of part D—specifically sections 172(c) and 176. Additionally, the 1990 CAA required that CO nonattainment areas such as Manchester and Nashua to achieve other specific new requirements. Each of these requirements are discussed in greater detail below.

Reasonably Available Control Measures: The General Preamble for the implementation of Title One of the Clean Air Act Amendments of 1990 (57 FR 13498 (April 16, 1992)) explains that section 172(c)(1) requires the plans for all nonattainment areas to provide for the implementation of all Reasonably Available Control Measures (RACM) as expeditiously as practicable. The EPA interprets this requirement to impose a duty on all nonattainment areas to consider all available control measures and to adopt and implement such measures as are reasonably available for implementation in the area as components of the area's attainment demonstration. This includes the previously mentioned CO I/M program in Nashua and the street and intersection improvements in both Manchester and Nashua. Because each area has reached attainment, no additional measures are needed to provide for attainment.

Emission Inventory: Under the Clean Air Act as amended, States have the responsibility to inventory emissions contributing to NAAQS nonattainment, to track these emissions over time, and to ensure that control strategies are being implemented that reduce emissions and move areas toward attainment. Section 172(c)(3) of the CAA requires that nonattainment plan provisions include a comprehensive, accurate, and current inventory of actual emissions from all sources of relevant pollutants in the nonattainment area. New Hampshire included the requisite inventory in the February 2, 1999 submittals for both Manchester and Nashua using 1990 as the base year for the inventory. Stationary point sources, stationary area sources, on-road mobile sources, and non-road mobile sources of CO were included in the inventories. The inventory is designed to address actual CO emissions for the area during the peak CO season. Available guidance for preparing emission inventories is provided in the General Preamble (57 FR 13498 (April 16, 1992)). In today's action, EPA is approving the emission inventories for the Manchester and Nashua areas.

New Source Review: In an October 14, 1994 memorandum from Mary D. Nichols entitled “Part D New Source Review (part D NSR) Requirements for Areas Requesting Redesignation to Attainment,” EPA established a new policy under which nonattainment areas may be redesignated to attainment notwithstanding the lack of a fully-approved part D NSR program, provided the program is not relied upon for maintenance. Consistent with policy, EPA is not requiring as a prerequisite to redesignation that the Manchester and Nashua CO nonattainment areas have a fully approved part D NSR program that meets the CAA requirements of 1990. In making this decision, EPA found that New Hampshire has not relied on its current SIP approved NSR program for CO sources to maintain attainment. On July 2, 1999, New Hampshire submitted NSR SIP revisions to make its rules consistent with the CAA requirements of 1990. In addition, the federal Prevention of Significant Deterioration (PSD) program under 40 CFR 52.21 will apply in the Manchester and Nashua CO areas once redesignated to prevent emission increases from new major new sources or major modifications in these areas from causing or contributing to a violation of the NAAQS.

Conformity: Under section 176(c) of the CAA, States are required to submit revisions to their SIPs that include criteria and procedures to ensure that federal actions conform to the air quality planning goals in the applicable SIPs. The requirement to determine conformity applies to transportation plans, programs, and projects developed, funded or approved under Title 23 U.S.C. or the Federal Transit Act (“transportation conformity”), as well as all other federal actions (“general conformity”). Congress provided for the State revisions to be submitted one year after the date of promulgation of final EPA conformity regulations. EPA promulgated revised final transportation conformity regulations on August 15, 1997 (62 FR 43780) and final general conformity regulations on November 30, 1993 (58 FR 63214).

These conformity rules require that the States adopt both transportation and general conformity provisions in the SIP for areas designated nonattainment or subject to a maintenance plan approved under CAA section 175A. Pursuant to Sec. 51.390 of the transportation conformity rule, the State of New Hampshire was required to submit a SIP revision containing transportation conformity criteria and procedures consistent with those established in the federal rule by August 15, 1998. Similarly, pursuant to Sec. 51.851 of the general conformity rule, New Hampshire was required to submit a SIP revision containing general conformity criteria and procedures consistent with those established in the federal rule by December 1, 1994.

On July 10, 1999, the State of New Hampshire submitted a general conformity rule that EPA approved into the SIP on August 16, 1999 (64 FR 44417). In addition, New Hampshire has a State approved transportation conformity rule that was officially submitted to EPA for inclusion into the SIP on December 7, 1998. EPA has not yet taken action on the transportation conformity rule.

Although New Hampshire does not yet have an approved transportation conformity SIP, EPA may approve this redesignation request. EPA interprets the requirement of a fully approved SIP in section 107(d)(3)(E)(v) to mean that, for a redesignation request to be approved, the State must have met all requirements that become applicable to the subject area before or at the time of the submission of the redesignation request. EPA's federal conformity rules require the performance of conformity analyses in the absence of state-adopted rules. Therefore, a delay in approving state rules does not relieve an area from the obligation to implement conformity requirements.

Areas are subject to the conformity requirements regardless of whether they are redesignated to attainment and must implement conformity under all circumstances, therefore, it is reasonable to view these requirements as not being applicable requirements for purposes of evaluating a redesignation request. Furthermore, New Hampshire has continually fulfilled all of the requirements of the federal transportation conformity and general conformity rules, so it is not necessary that the State have their transportation conformity rule approved in the SIP before redesignation to insure that New Hampshire meet the substance of the conformity requirements.

On January 30, 1996, EPA modified its national policy regarding the interpretation of the provisions of section 107(d)(3)(E) concerning the applicable requirements for purposes of reviewing a CO redesignation request (61 FR 2918 (January 30, 1996)). Under this new policy, for the reasons discussed, EPA believes that the CO redesignation request may be approved notwithstanding the lack of approved state transportation conformity rules.

Each of the redesignation requests from New Hampshire contained carbon monoxide motor vehicle emission budgets for use in conformity. Those budgets were 55.83 tons per day for Manchester and 60.13 tons per day for Nashua. On March 2, 1999, the D.C. Circuit Court ruled that submitted emission budgets cannot be used for transportation conformity determinations until EPA has affirmatively found them adequate. EPA published an adequacy notice in the Federal Register on February 29, 2000 (65 FR 10785) notifying the public that we have found the motor vehicle emissions budgets for the New Hampshire cities of Manchester and Nashua, received by EPA on February 2, 1999 as part of the CO redesignation requests, adequate for conformity purposes. This Federal Register notice was simply an announcement of a finding that we have already made in a letter to the New Hampshire Department of Environmental Services on November 2, 1999. These budgets must be used in future conformity determinations, thereby capping motor vehicle emissions and preventing monitored CO values from exceeding the NAAQS.

In this action, EPA is approving the CO emission budgets submitted by New Hampshire for the cities of Manchester and Nashua into the CO SIP.

3. Improvement in Air Quality Due to Permanent and Enforceable Measures—EPA approved all of the components of New Hampshire's CO SIPs, submitted in 1982 for Manchester and 1985 for Nashua. Emission reductions achieved through the implementation of control measures contained in New Hampshire's CO SIPs are enforceable. In Manchester, this included the addition of turn lanes at Elm and Bridge Streets. In Nashua, this included making Lowell Street a two way thoroughfare, the development of the Kinsley Street extension, removal of parking on Main Street, and Main Street traffic optimizations. In addition, a basic CO I/M program was initiated in Nashua and eleven surrounding towns in 1987 to address high levels of CO recorded at the Main Street monitor. EPA is allowing New Hampshire to replace this program with the Tier 1 motor vehicle standards and RFG, which were implemented in1994 and 1995, respectively.

Manchester and Nashua have been achieving the CO NAAQS since 1987 and 1988, respectively, and both areas continue to monitor attainment to date. The air quality improvements in both cities are due to the permanent and enforceable measures contained in the SIPs. EPA finds that the combination of certain existing EPA-approved SIP and federal measures contribute to the permanence and enforceability of reduction in ambient CO levels that have allowed the area to attain the NAAQS.

4. Fully Approved Maintenance Plan Under Section 175A—Section 175A of the CAA sets forth the elements of a maintenance plan for areas seeking redesignation from nonattainment to attainment. The plan must demonstrate continued attainment of the applicable NAAQS for at least ten years after the Administrator approves a redesignation to attainment. Eight years after the redesignation, the state must submit a revised maintenance plan which demonstrates attainment for the ten years following the initial ten-year period. To provide for the possibility of future NAAQS violations, the maintenance plan must contain contingency measures, with a schedule for implementation adequate to assure prompt correction of any air quality problems.

Section 175A of the Clean Air Act states that the twenty year maintenance period must consist of an initial ten year maintenance plan and the submittal of a second ten year maintenance plan eight years after redesignation. In the Manchester and Nashua CO redesignation requests, New Hampshire modeled for 2010 in addition to 2020. In addition, the State submitted a maintenance plan that extends to 2020 even though maintenance plans are typically only applicable for a ten year period, or until 2010. EPA will not require a second maintenance plan for the 2010 to 2020 period provided that New Hampshire submits to EPA an acknowledgment that the maintenance plan will remain in effect for a second ten year period, that New Hampshire will continue to implement that plan, and that both cities will remain in attainment. This acknowledgment must be received by EPA within eight years of the effective date of this redesignation. New Hampshire has acknowledged this requirement in the February 2, 1999 submittals for both Manchester and Nashua.

In this notice, EPA is approving the State of New Hampshire's maintenance plans for the Cities of Manchester and Nashua because EPA finds that New Hampshire's submittal meets the requirements of section 175A.

A. Attainment Emission Inventory

The State of New Hampshire submitted a comprehensive inventory of CO emissions for the Manchester and Nashua area. The inventory includes emissions from area, stationary, and mobile sources using 1990 as the base year for calculations. The 1990 inventory is considered representative of attainment conditions because the NAAQS was not violated during 1990 and was prepared in accordance with EPA guidance. New Hampshire established CO emissions for 1990 as well as forecasts to the year 2020. These estimates were derived from the State's 1990 emissions inventory. The State submittals contains the following information:

Carbon Monoxide Emission Summary for Manchester—Base Year and Projected, 1999-2020
[Tons per day]
Year | On-road mobile | Off-road mobile | Stationary area | Stationary point | Total—all categories
1990 | 59.84 | 12.01 | 9.61 | 0.16 | 81.62
1999 | 35.86 | 12.78 | 10.15 | 0.16 | 58.95
2002 | 35.22 | 13.09 | 10.38 | 0.16 | 58.85
2005 | 34.58 | 13.42 | 10.61 | 0.16 | 58.77
2010 | 34.20 | 13.72 | 10.81 | 0.16 | 58.89
2020 | 38.90 | 14.43 | 11.20 | 0.16 | 64.69

Carbon Monoxide Emission Summary for Nashua—Base Year and Projected, 1999-2020
[Tons per day]
Year | On-road mobile | Off-road mobile | Stationary area | Stationary point | Total—all categories
1990 | 62.72 | 9.07 | 7.69 | 0.40 | 79.88
1999 | 41.61 | 9.60 | 8.12 | 0.40 | 59.73
2002 | 42.56 | 9.79 | 8.26 | 0.40 | 61.01
2005 | 43.51 | 9.96 | 8.39 | 0.40 | 62.26
2010 | 45.51 | 10.11 | 8.50 | 0.40 | 64.52
2020 | 52.96 | 10.55 | 8.80 | 0.40 | 72.71

In today's action, EPA is approving the emission inventories for Manchester and Nashua.

B. Demonstration of Maintenance—Projected Inventories

Total CO emissions were projected from 1990 base year out to 2020. These projected inventories were prepared in accordance with EPA guidance, and it is anticipated that the area will maintain CO levels below the NAAQS.

C. Verification of Continued Attainment

Continued attainment of the CO NAAQS in the Manchester and Nashua areas depends, in part, on the State's efforts toward tracking indicators of continued attainment during the maintenance period, and the State will submit periodic inventories of CO emissions. Therefore, eight years from today, New Hampshire must submit to EPA an acknowledgment that the maintenance plan will remain in effect and New Hampshire will continue to implement it for a second ten year period and that the area will maintain attainment through 2020.

D. Contingency Plan

The level of CO emissions in the Manchester and Nashua areas will largely determine its ability to stay in compliance with the CO NAAQS in the future. Despite the State's best efforts to demonstrate continued compliance with the NAAQS, the ambient air pollutant concentrations may exceed or violate the NAAQS, although highly unlikely. Section 175A(d) of the CAA requires that the contingency provisions include a requirement that the State implement all measures contained in the SIP prior to redesignation, and New Hampshire has fulfilled this requirement. In addition, New Hampshire has provided contingency measures in the event of a future CO air quality problem.

New Hampshire has developed a continency plan consisting of the New Hampshire's low emission vehicle program ⁶ (NLEV), which was implemented for model year 1999, and the New Hampshire Enhanced Safety Inspection Program, which was implemented in 1999.⁷ Although New Hampshire is implementing these programs as measures to achieve the NAAQS for ground level ozone, they are not required in nonclassified CO nonattainment areas under the CAA and can therefore be used as contingency measures. In order to be adequate, the maintenance plan should include at least one contingency measure that will go into effect with a triggering event. New Hampshire is relying largely on these two contingency measures that will go into effect regardless of any triggering event, thereby fulfilling this requirement. EPA accepts this approach.

⁶ New Hampshire's NLEV program was approved into the SIP on March 9, 2000 (65 FR 12476).

⁷ A notice of proposed rulemaking for New Hampshire's enhanced safety I/M program was published on December 17, 1998 (63 FR 69589).

E. Subsequent Maintenance Plan Revisions

In accordance with section 175A(b) of the CAA, the State must implement two ten year maintenance plans. New Hampshire must submit to EPA eight years from today an acknowledgment that its 20 year maintenance plan will remain in effect for a second ten year period.

5. Meeting Applicable Requirements of Section 110 and Part D—In this notice, EPA has set forth the basis for its conclusion that New Hampshire has a fully approved SIP that meets the applicable requirements of Section 110 and Part D of the CAA.

II. Final Action

EPA is approving the revision to the CO SIP for the City of Nashua; the CO redesignation request, maintenance plan, transportation conformity budget, and emissions inventory for the City of Nashua; and the CO redesignation request, maintenance plan, transportation conformity budget, and emissions inventory for the City of Manchester. The EPA is publishing this action without prior proposal because the Agency views these as a noncontroversial amendments and anticipates no adverse comments. However, in the proposed rules section of this Federal Register publication, EPA is publishing a separate document that will serve as the proposal to approve the SIP revision should relevant adverse comments be filed. This rule will be effective January 29, 2001 without further notice unless the Agency receives relevant adverse comments by December 29, 2000.

If the EPA receives such comments, then EPA will publish a notice withdrawing the final rule and informing the public that the rule will not take effect. All public comments received will then be addressed in a subsequent final rule based on the proposed rule. The EPA will not institute a second comment period on the proposed rule. Only parties interested in commenting on the proposed rule should do so at this time. If no such comments are received, the public is advised that this rule will be effective on January 29, 2001 and no further action will be taken on the proposed rule.

III. Administrative Requirements

Under Executive Order 12866 (58 FR 51735 (October 4, 1993)), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). For the same reason, this rule also does not significantly or uniquely affect the communities of tribal governments, as specified by Executive Order 13084 (63 FR 27655 (May 10, 1998)). This rule will not have substantial direct effects on the States, on the relationship between the national government and the States, or on the distribution of power and responsibilities among the various levels of government, as specified in Executive Order 13132 (64 FR 43255 (August 10, 1999)), because it merely approves a state rule implementing a federal standard, and does not alter the relationship or the distribution of power and responsibilities established in the Clean Air Act. This rule also is not subject to Executive Order 13045 (62 FR 19885 (April 23, 1997)), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729 (February 7, 1996)), in issuing this rule, EPA has taken the necessary steps to eliminate drafting errors and ambiguity, minimize potential litigation, and provide a clear legal standard for affected conduct. EPA has complied with Executive Order 12630 (53 FR 8859 (March 15, 1988)) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by January 29, 2001. Interested parties should comment in response to the proposed rule rather than petition for judicial review, unless the objection arises after the comment period allowed for in the proposal. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Carbon monoxide, Hydrocarbons, Incorporation by reference, Intergovernmental relations, Nitrogen dioxide, Ozone, Particulate matter, Reporting and recordkeeping requirements, Sulfur oxides.

40 CFR Part 81

Air pollution control, National parks, Wilderness areas.

Dated: November 14, 2000.
Mindy S. Lubber,
Regional Administrator, EPA—New England.

Parts 52 and 81, chapter I, title 40 of the Code of Federal Regulations is amended as follows:

PART 52—[AMENDED]

1. The authority citation for part 52 continues to read as follows:

Authority: 42 U.S.C. 7401 et seq.

Subpart EE—New Hampshire

2. Section 52.1523 is amended by revising the table to read as follows:

§ 52.1523 Attainment dates for national standards.

* * * * *

Air quality control region | SO2: Primary | SO2: Secondary | PM10 | NO2 | CO | O3
NH portion Andoscoggin Valley Interstate AQCR 107 | (a) | (b) | (a) | (a) | (a) | (a)
Central NH Intrastate AQCR 149 | (a) | (b) | (a) | (a) | (a) | (a)
NH portion Merrimack Valley-Southern NH Interstate 121:
Belnap County | (a) | (b) | (a) | (a) | (a) | (a)
Sullivan County | (a) | (b) | (a) | (a) | (a) | (a)
Cheshire County | (a) | (b) | (a) | (a) | (a) | (d)
Portmouth-Dover-Rochester area (See 40 CFR 81.330) | (a) | (b) | (a) | (a) | (a) | (e)
NH portion Boston-Lawrence-Worcester area (See 40 CFR 81.330) | (a) | (b) | (a) | (a) | (a) | (e)
Manchester area (See 40 CFR 81.330) | (a) | (b) | (a) | (a) | (a) | (c)
ᵃ Air quality levels presently below primary standards or area is unclassifiable.
ᵇ Air quality levels presently below secondary standards or area is unclassifiable.
ᶜ November 15, 1993.
ᵈ November 15, 1995.
ᵉ November 15, 1999.

3. Section 52.1528 is added to read as follows:

§ 52.1528 Control strategy: Carbon monoxide.

(a) Approval—On February 1, 1999, the New Hampshire Department of Environmental Services submitted a revision to the State Implementation Plan to remove the Nashua Inspection/Maintenance program for carbon monoxide that ceased operating on January 1, 1995. The Nashua Inspection/Maintenance was originally approved at § 52.1520(c)(39). The Nashua Inspection/Maintenance program was replaced with controls consisting of the existing federal Tier 1 emission standards for new vehicles and the federal reformulated gasoline program.

(b) Approval—On February 2, 1999, the New Hampshire Department of Environmental Services submitted a request to redesignate the City of Manchester carbon monoxide nonattainment area to attainment for carbon monoxide. As part of the redesignation request, the State submitted a maintenance plan as required by 175A of the Clean Air Act, as amended in 1990. Elements of the section 175A maintenance plan include a base year (1990 attainment year) emission inventory for carbon monoxide, a demonstration of maintenance of the carbon monoxide NAAQS with projected emission inventories to the year 2010 for carbon monoxide, a plan to verify continued attainment, a contingency plan, and an obligation to submit additional information in eight years acknowledging that the maintenance plan will remain in effect through the year 2020, as required by the Clean Air Act. If the area records a violation of the carbon monoxide NAAQS (which must be confirmed by the State), New Hampshire will implement one or more appropriate contingency measure(s) which are contained in the contingency plan. The menu of contingency measures includes the enhanced safety inspection program and New Hampshire's low emission vehicle program (NLEV) as contingency measures. The redesignation request establishes a motor vehicle emissions budget of 55.83 tons per day for carbon monoxide to be used in determining transportation conformity for the Manchester area. The redesignation request and maintenance plan meet the redesignation requirements in sections 107(d)(3)(E) and 175A of the Act as amended in 1990, respectively.

(c) Approval—On February 2, 1999, the New Hampshire Department of Environmental Services submitted a request to redesignate the City of Nashua carbon monoxide nonattainment area to attainment for carbon monoxide. As part of the redesignation request, the State submitted a maintenance plan as required by 175A of the Clean Air Act, as amended in 1990. Elements of the section 175A maintenance plan include a base year (1990 attainment year) emission inventory for carbon monoxide, a demonstration of maintenance of the carbon monoxide NAAQS with projected emission inventories to the year 2010 for carbon monoxide, a plan to verify continued attainment, a contingency plan, and an obligation to submit additional information in eight years acknowledging that the maintenance plan will remain in effect through the year 2020, as required by the Clean Air Act. If the area records a violation of the carbon monoxide NAAQS (which must be confirmed by the State), New Hampshire will implement one or more appropriate contingency measure(s) which are contained in the contingency plan. The menu of contingency measures includes the enhanced safety inspection program and New Hampshire's low emission vehicle program (NLEV) as contingency measures. The redesignation request establishes a motor vehicle emissions budget of 60.13 tons per day for carbon monoxide to be used in determining transportation conformity for the Nashua area. The redesignation request and maintenance plan meet the redesignation requirements in sections 107(d)(3)(E) and 175A of the Act as amended in 1990, respectively.

PART 81—[AMENDED]

4. The authority citation for part 81 continues to read as follows:

Authority: 42 U.S.C. 7401 et seq.

Subpart C—Section 107 Attainment Status Designations

5. The table in § 81.330 entitled “New Hampshire-Carbon Monoxide” is revised to read as follows:

§ 81.330 New Hampshire.

* * * * *

New Hampshire—Carbon Monoxide
Designated area: | Designation: Date | Designation: Type | Classification: Date | Classification: Type
Manchester Area:
Hillsborough County (part), City of Manchester | 1-29-01 | Attainment
Nashua Area:
Hillsborough County (part), City of Nashua | 1-29-01 | Attainment
AQCR 107 Androscoggin Valley Interstate |  | Unclassifiable/Attainment
Coos County
AQCR 121 Merrimack Valley-S NH Interstate |  | Unclassifiable/Attainment
Belknap County
Cheshire County
Hillsborough County (part), Area outside of Nashua and Manchester
Merrimack County
Rockingham County
Stratford County
Sullivan County
AQCR 149 Central New Hampshire Intrastate |  | Unclassifiable/Attainment
Carroll County
Grafton County

[FR Doc. 00-30275 Filed 11-28-00; 8:45 am]

BILLING CODE 6560-50-P